DEPARTMENT OF ENERGY

Federal Energy Regulatory Commission

[Project No. 2165-040]

Alabama Power Company; Notice of Application Accepted for Filing and Soliciting Comments, Motions To Intervene, and Protests

Take notice that the following hydroelectric application has been filed with the Commission and is available for public inspection:

a. Application Type: Recreation Management Plan Update.

b. Project No: 2165-040.

c. Date Filed: April 29, 2022.

d. Applicant: Alabama Power Company.

e. Name of Project: Warrior River Hydroelectric Project.

f. Location: The project is located on the Black Warrior River and the Sipsey Fork, a headwater tributary to the Black Warrior River, in Cullman, Walker, Winston, and Tuscaloosa Counties, Alabama. The project occupies federal lands managed by the U.S. Forest Service and the Bureau of Land Management.

g. Filed Pursuant to: Federal Power Act, 16 U.S.C. 791a-825r.

h. Applicant Contact: David Anderson, Alabama Power Company, 600 N 18th Street, Birmingham, AL 35203; telephone (205) 257-1398; or email dkanders@southernco.com.

i. FERC Contact: Mark Ivy, (202) 502-6156, or mark.ivy@ferc.gov.

j. Deadline for filing comments, motions to intervene, and protests: January 17, 2023.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2165-040. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee filed a Recreation Management Plan update, which includes a description and of the recreation facilities at each project recreation site, a discussion of the methods used to gather recreation use data; a process for determining recreational needs at the project, criteria for decommissioning required recreation sites, a report of recreation use at each site, and documentation of consultation with stakeholders. The plan also includes a request to modify the requirement to conduct recreation monitoring and to file plan updates from every six years to every ten years over the remaining license term. Additionally, the licensee requests to remove the Exhibit R drawings from the plan, to replace them with the as-built drawings included in Appendix D of the updated plan, and to modify the requirement for any future drawings to use the as-built format.

l. In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: December 15, 2022.
Debbie-Anne A. Reese,
Deputy Secretary.

[FR Doc. 2022-27718 Filed 12-20-22; 8:45 am]

BILLING CODE 6717-01-P